DEPARTMENT OF THE TREASURY

Unblocking of Blocked Persons Pursuant to Executive Order 13067 and Executive Order 13412

AGENCY: Office of Foreign Assets Control, Department of the Treasury.

ACTION: Notice.

SUMMARY: The Department of Treasury's Office of Foreign Assets Control (“OFAC”) is publishing the names of two entities whose property and interests in property have been unblocked pursuant to Executive Order 13067 of November 3, 1997, “Blocking Sudanese Government Property and Prohibiting Transactions With Sudan,” and Executive Order 13412 of October 13, 2006, “Blocking Property of and Prohibiting Transactions With the Government of Sudan.”

DATES: The unblocking and removal from the list of Specially Designated Nationals and Blocked Persons (“SDN List”) of the entities identified in this notice whose property and interests in property were blocked pursuant to Executive Order 13067 of November 3, 1997, and Executive Order 13412 of October 13, 2006, is effective April 28, 2011 for the Bank of Khartoum and May 26, 2011 for National Export-Import Bank.

FOR FURTHER INFORMATION CONTACT: Assistant Director for Sanctions Compliance and Evaluation, tel.: 202/622-2490.

SUPPLEMENTARY INFORMATION:

Electronic and Facsimile Availability

This document and additional information concerning OFAC are available from OFAC's Web site (http://www.treas.gov/ofac). Certain general information pertaining to OFAC's sanctions programs also is available via facsimile through a 24-hour fax-on-demand service, tel.: (202) 622-0077.

Background

On November 3, 1997 the President, invoking the authority of, inter alia, the International Emergency Economic Powers Act (50 U.S.C. 1701-1706) (“IEEPA”), issued Executive Order 13067 (“E.O. 13067”). In E.O. 13067, the President declared a national emergency to deal with the Government of Sudan's continued support of international terrorism; ongoing efforts to destabilize neighboring governments; and the prevalence there of human rights violations, including slavery and the denial of religious freedom. Section 1 of E.O. 13067 blocks, with certain exceptions, all property and interests in property of the Government of Sudan that are in the United States, that hereafter come within the United States, or that hereafter come within the possession or control of United States persons, including their overseas branches. Section 4 defines the term “Government of Sudan” to include the Government of Sudan, its agencies, instrumentalities and controlled entities, and the Central Bank of Sudan.

On October 13, 2006, the President, invoking the authority of, inter alia, IEEPA, issued Executive Order 13412 (“E.O. 13412”), in order to take additional steps with respect to the national emergency declared in E.O. 13067. Section 1 of E.O. 13412 restates the blocking of the Government of Sudan imposed by E.O. 13067. Section 6 excludes the regional government of Southern Sudan from the definition of the Government of Sudan.

On April 28, 2011, OFAC removed the entity listed below, whose property and interests in property were blocked pursuant to E.O. 13067 and E.O. 13412 from the SDN List:

BANK OF KHARTOUM (a.k.a. BANK OF KHARTOUM GROUP), P.O. Box 1008, Khartoum, Sudan; P.O. Box 312, Khartoum, Sudan; P.O. Box 880, Khartoum, Sudan; P.O. Box 2732, Khartoum, Sudan; P.O. Box 408, Barlaman Avenue, Khartoum, Sudan; P.O. Box 67, Omdurman, Sudan; P.O. Box 241, Port Sudan, Sudan; P.O. Box 131, Wad Medani, Sudan; Abu Hammad, Sudan; Abugaouta, Sudan; Assalaya, Sudan; P.O. Box 89, Atbara, Sudan; Berber, Sudan; Dongola, Sudan; El Daba, Sudan; El Dain, Sudan; El Damazeen, Sudan; El Damer, Sudan; El Dilling, Sudan; El Dinder, Sudan; El Fashir, Sudan; El Fow, Sudan; El Gadarit, Sudan; El Garia, Sudan; El Ghadder, Sudan; El Managil, Sudan; El Mazmoum, Sudan; P.O. Box 220, El Obeid, Sudan; El Rahad, Sudan; El Roseirs, Sudan; El Suk el Shabi, Sudan; Halfa el Gadida, Sudan; Karima, Sudan; Karkoug, Sudan; Kassala, Sudan; Omdurman P.O. Square, P.O. Box 341, Khartoum, Sudan; Sharia el Barlaman, P.O. Box 922, Khartoum, Sudan; Sharia el Gama'a, P.O. Box 880, Khartoum, Sudan; Sharia el Gamhoria, P.O. Box 312, Khartoum, Sudan; Sharia el Murada, Khartoum, Sudan; Tayar Murad, P.O. Box 922, Khartoum, Sudan; Suk el Arabi, P.O. Box 4160, Khartoum, Sudan; University of Khartoum, Khartoum, Sudan; P.O. Box 12, Kosti, Sudan; P.O. Box 135, Nyala, Sudan; Rabak, Sudan; Rufaa, Sudan; Sawakin, Sudan; Shendi, Sudan; Singa, Sudan; Tamboul, Sudan; Tandalti, Sudan; Tokar, Sudan; Wadi Halfa, Sudan [SUDAN]

On May 26, 2011, OFAC removed from the SDN List the entity listed below, whose property and interests in property were blocked pursuant to E.O. 13067 and E.O. 13412:

NATIONAL EXPORT-IMPORT BANK (n.k.a. BANK OF KHARTOUM GROUP), Sudanese Kuwait Commercial Centre, Nile Street, P.O. Box 2732, Khartoum, Sudan [SUDAN]

Dated: May 26, 2011.
Adam J. Szubin,
Director, Office of Foreign Assets Control.

[FR Doc. 2011-14287 Filed 6-8-11; 8:45 am]

BILLING CODE 4810-AL-P